DEPARTMENT OF COMMERCE

Census Bureau

2006 Census Test Coverage Followup Operation

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before October 17, 2005.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Frank Vitrano, U.S. Census Bureau, Building 2, Room 2012, Washington, DC 20233-9200, 301-763-3961.

SUPPLEMENTARY INFORMATION:

I. Abstract

Improving coverage, or how well the Census Bureau counts people and housing units in the census, is one of the major goals for the 2010 Census. The U.S. Census Bureau has designed a series of tests intended to examine new methods for improving overall coverage of the population and housing. Favorable results will be implemented in the 2010 Decennial Census Program. In preparation for the 2010 Census, the Census Bureau has conducted two previous operations designed to evaluate the effectiveness of new procedures for improving coverage and reducing duplication. These coverage measurement operations are the 2004 Census Test Coverage Research Followup (OMB Approval Number 0607-0910) and the 2005 National Census Test Coverage Followup (OMB Approval Number 0607-0916.)

The 2006 Census Test is part of the cycle of tests leading up to the 2010 Census. Like other tests, the primary goals of this test are designed to evaluate new methods and systems intended to improve accuracy, provide more timely and relevant data, reduce risks, and/or contain costs. In support of these goals, the 2006 Coverage Followup (CFU) operation is designed to study a method to improve coverage that collects additional information from households that might have coverage problems. This includes households where persons might have been counted more than once (e.g., students who are counted at their parents' home but also counted where they reside while they are attending school) and persons who might not have been included in the household count (e.g., newborn babies or roommates). This operation also will contact large households (those with more than six persons listed on their mail-back questionnaires) in order to ensure that everyone is included in the census. Another category of households that we will attempt to contact are those that contain persons identified through the StARS database (an administrative records database built from six national level data files) but who were not included on the appropriate census questionnaire. Finally, this operation will include households where the count of persons does not equal the number of persons for which census data were provided during enumeration

II. Method of Collection

The 2006 Census Test CFU operation will be conducted in selected locations in Travis County, Texas and the Cheyenne River Reservation and Off Reservation Trust Land, South Dakota in two phases: telephone and personal visit.

The telephone operation will be conducted April 21, 2006, through August 31, 2006, with an expected workload of approximately 25,000 housing units in Travis County and approximately 400 housing units in the Cheyenne River Reservation. During this operation, the CFU interviewers will attempt to contact, via telephone, a portion of the households that fall within the CFU sample that provided a telephone number on the questionnaire. The followup interviews will be conducted by U.S. Census Bureau staff at two of the U.S. Census Bureau's telephone call centers, located in Jeffersonville, IN and Tucson, AZ. These interviews will be conducted by computer-assisted telephone interviewing (CATI). The CATI instrument will be in English, or in Spanish for those respondents who wish to report their information in the Spanish language. We expect an approximately 60% response rate for the telephone operation. Nonrespondents during this operation will be sent for personal visit followup.

The personal visit operation will be conducted July 21, 2006, through August 31, 2006, with an expected workload of approximately 28,000 housing units in Travis County and approximately 400 housing units in the Cheyenne River Reservation, including those nonrespondents from the telephone operation. During this operation, enumerators will attempt to enumerate respondents using a paper questionnaire. We expect an approximately 90% response rate for the personal visit operation.

The purpose of the CFU telephone and personal visit contact is to identify those persons who may have been counted in more than one household or erroneously excluded from any household. The items included in the 2006 CFU questionnaire are probes that are intended to indicate whether respondents understood and properly applied the residence rules instructions on the 2006 Census Test questionnaire.

III. Data

OMB Number: Not available.

Form Number:

Type of Review: Regular.

Affected Public: Individuals or households.

Estimated Number of Respondents: Approximately 53,800 housing units.

Estimated Time Per Response: The personal visit operation and the telephone operation will each require approximately 10 minutes for response.

Estimated Total Annual Burden Hours: Approximately 8,967 hours for the total CFU workload.

Estimated Total Annual Cost: There is no cost to respondents except for their time to respond.

Respondent's Obligation: Mandatory.

Legal Authority: Title 13 of the United States Code, Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 11, 2005.
Madeleine Clayton,
Management Analyst, Office of the Chief Information Officer.

[FR Doc. 05-16250 Filed 8-16-05; 8:45 am]

BILLING CODE 3510-07-P